ENVIRONMENTAL PROTECTION AGENCY

40 CFR Part 300

[EPA-HQ-SFUND-1990-0011; FRL-9916-83-Region 6]

Withdrawal of Direct Final Rule; National Oil and Hazardous Substances Pollution Contingency Plan; National Priorities List: Direct Deletion of the Monroe Auto Equipment (Paragould Pit) Superfund Site

AGENCY: Environmental Protection Agency.

ACTION: Withdrawal of direct final rule.

SUMMARY: On August 14, 2014, Environmental Protection Agency (EPA) published a direct final rule (79 FR 47586) and a proposed rule; notice of intent to delete (79 FR 47610) that deleted the Monroe Auto Equipment Company (Paragould Pit) site from the Superfund National Priorities List (NPL). EPA stated in the direct final rule that if EPA received adverse comments by September 15, 2014, EPA would publish a timely notice of withdrawal in the Federal Register. Subsequently, EPA discovered scribal errors in the supporting documentation of the final direct rule. EPA will correct those errors in a subsequent final action based on the parallel proposal which published on August 14, 2014. EPA will not institute a second comment period on this final action. Unless adverse comments are received by September 15, 2014, the effective date of the final rule will be September 29, 2014.

DATES: Effective: The direct final rule published at 79 FR 47586 on August 14, 2014, is withdrawn effective September 25, 2014.

FOR FURTHER INFORMATION CONTACT: Brian Mueller, Remedial Project Manager; U.S. Environmental Protection Agency, Region 6; Superfund Division (6SF-RL); 1445 Ross Avenue, Suite 1200, Dallas, Texas 75202-2733, telephone (214) 665-7167; email address: mueller.brian@epa.gov,

SUPPLEMENTARY INFORMATION: The EPA Region 6 published a direct final Notice of Deletion of the Monroe Auto Equipment (Paragould Pit) Superfund Site located in Paragould, Greene County, Arkansas, from the National Priorities List (NPL) on August 14, 2014. The NPL, promulgated pursuant to section 105 of the Comprehensive Environmental Response, Compensation, and Liability Act (CERCLA) of 1980, as amended, is an appendix of the National Oil and Hazardous Substances Pollution Contingency Plan (NCP). The NPL constitutes Appendix B of 40 CFR Part 300 as amended. EPA maintains the NPL as the list of sites that appear to present a significant risk to public health, welfare, or the environment. Sites on the NPL may be the subject of remedial actions financed by the Hazardous Substance Superfund (Fund). As described in 300.425(e)(3) of the NCP, sites deleted from the NPL remains eligible for Fund-financed remedial action if future conditions warrant such actions. The direct final deletion was published by EPA with the concurrence of the State of Arkansas, through the Arkansas Department of Environmental Quality (ADEQ), because EPA has determined that all appropriate response actions under CERCLA have been completed. EPA subsequently discovered scribal errors in the supporting documentation of the final direct rule. EPA will correct those errors in a subsequent final action based on the parallel proposal which published on August 14, 2014. We will not institute a second comment period on this final action unless adverse comments are received by September 15, 2014. If no adverse comments are received the effective date of the subsequent action will be September 29, 2014.

Dated: September 9, 2014.
Ron Curry,
Regional Administrator, Region 6.

[FR Doc. 2014-22639 Filed 9-24-14; 8:45 am]

BILLING CODE 6560-50-P